DEPARTMENT OF TRANSPORTATION

Office of the Secreatry

Aviation Proceedings, Agreements Filed During the Week Ending December 7, 2001

The following Agreements were filed with the Department of Transportation under provisions of 49 U.S.C. sections 412 and 414. Answers may be filed within 21 days after the filing of the applications.

Docket Number: OST-2001-11085.

Date Filed: December 3, 2001.

Parties: Members of the International Air Transport Association.

Subject:

PTC COMP 0881 dated 4 December 2001

Mail Vote 184 Resolution 010p

TC2/12/23/123 Special Passenger Amending Resolution from Lithuania.

Intended effective date: 1 February 2002.

Docket Number: OST-2001-11124.

Date Filed: December 7, 2001.

Parties: Members of the International Air Transport Association.

Subject:

TC23/TC123 Africa—TC3

Africa-South Asian Subcontinent, Africa-South West Pacific

Mail Vote 180—Africa-South East Asia

Mail Vote 181—Africa-Japan/Korea

PTC23 AFR-TC3 0141 dated 2 November 2001

Africa-South Asian Subcontinent Resolutions r1-r12

PTC23 AFR-TC3 0142 dated 2 November 2001

Africa-South West Pacific Resolutions r13-r24

PTC23 AFR-TC3 0138 dated 29 October 2001

Africa-South East Pacific Resolutions r25-r36

PTC23 AFR-TC3 0149 dated 23 November 2001 (Affirmative)

PTC23 AFR-TC3 0152 dated 30 November 2001

Africa-Japan/Korea Resolutions r37-r59

MINUTES—PTC23 AFR-TC3 0146 dated 13 November 2001

TABLES—PTC23 AFR-TC3 Fares 0065 dated 13 November 2001

PTC23 AFR-TC3 Fares 0066 dated 13 November 2001

PTC23 AFR-TC3 Fares 0069 dated 23 November 2001

PTC23 AFR-TC3 Fares 0070 dated 7 December 2001.

Intended effective date: 1 April 2002.

Dorothy Y. Beard,
Federal Register Liaison.

[FR Doc. 01-31718 Filed 12-26-01; 8:45 am]

BILLING CODE 4910-62-P